DEPARTMENT OF COMMERCE

Bureau of the Census

[Docket Number 161107999-6999-01]

Voting Rights Act Amendments of 2006, Determinations Under Section 203

AGENCY: Bureau of the Census, Department of Commerce.

ACTION: Notice of determination.

SUMMARY: As required by Section 203 of the Voting Rights Act of 1965, as amended, this notice publishes the Bureau of the Census (Census Bureau) Director's determinations as to which political subdivisions are subject to the minority language assistance provisions of the Act. As of this date, those jurisdictions that are listed as covered by Section 203 have a legal obligation to provide the minority language assistance prescribed by the Act.

EFFECTIVE DATE: This notice is effective on December 5, 2016.

FOR FURTHER INFORMATION CONTACT: For information regarding this notice, please contact Mr. James Whitehorne, Chief, Census Redistricting and Voting Rights Data Office, Bureau of the Census, United States Department of Commerce, Room 4H057, 4600 Silver Hill Rd, Washington, DC 20233, by telephone at 301-763-4039, or visit the Redistricting & Voting Rights Data Office Internet site at http://www.census.gov/rdo/.

For information regarding the applicable provisions of the Act, please contact T. Christian Herren, Jr., Chief, Voting Section, Civil Rights Division, United States Department of Justice, Room 7254-NWB, 950 Pennsylvania Avenue NW., Washington, DC 20530, by telephone at (800) 253-3931 or visit the Voting Section Internet site at https://www.justice.gov/crt/voting-section.

SUPPLEMENTARY INFORMATION: In July 2006, Congress amended the Voting Rights Act of 1965, now codified at Title 52, United States Code (U.S.C.), § , 10301 et seq. (See Pub. L. 109-246, 120 Stat. 577 (2006)). Among other changes, the sunset date for minority language assistance provisions set forth in Section 203 of the Act was extended to August 5, 2032.

Section 203 mandates that a state or political subdivision must provide language assistance to voters if more than five (5) percent of voting age citizens are members of a single-language minority group and do not “speak or understand English adequately enough to participate in the electoral process” and if the rate of those citizens who have not completed the fifth grade is higher than the national rate of voting age citizens who have not completed the fifth grade. When a state is covered for a particular language minority group, an exception is made for any political subdivision in which less than five (5) percent of the voting age citizens are members of the minority group and are limited in English proficiency, unless the political subdivision is covered independently. A political subdivision is also covered if more than 10,000 of the voting age citizens are members of a single-language minority group, do not “speak or understand English adequately enough to participate in the electoral process,” and the rate of those citizens who have not completed the fifth grade is higher than the national rate of voting age citizens who have not completed the fifth grade.

Finally, if more than five (5) percent of the American Indian or Alaska Native voting age citizens residing within an American Indian Area, as defined for the purposes of the decennial census, are members of a single language minority group, do not “speak or understand English adequately enough to participate in the electoral process,” and the rate of those citizens who have not completed the fifth grade is higher than the national rate of voting age citizens who have not completed the fifth grade, any political subdivision, such as a county, which contains all or any part of that American Indian Area, is covered by the minority language assistance provision set forth in Section 203. For the 2010 Census, American Indian areas and Alaska Native Regional Corporations were identified by the federally recognized tribal governments, Bureau of Indian Affairs, and state governments. The Census Bureau worked with American Indians and Alaska Natives to identify statistical areas, such as Oklahoma Tribal Statistical Areas (OTSA), Tribal Designated Statistical Areas (TDSA), State Designated Tribal Statistical Areas (SDTSA), and Alaska Native Village Statistical Areas (ANVSA).

Pursuant to Section 203, the Census Bureau Director has the responsibility to determine which states and political subdivisions are subject to the minority language assistance provisions of Section 203. The state and political subdivisions obligated to comply with the requirements are listed in the attachment to this Notice.

Section 203 also provides that the “determinations of the Director of the Census under this subsection shall be effective upon publication in the Federal Register and shall not be subject to review in any court.” Therefore, as of this date, those jurisdictions that are listed as covered by Section 203 have legal obligation to provide the minority language assistance prescribed in Section 203 of the Act. In the cases where a state is covered, those counties or county equivalents not displayed in the attachment are exempt from the obligation. Those jurisdictions subject to Section 203 of the Act previously, but not included on the list below, are no longer obligated to comply with Section 203.

Dated: November 22, 2016.
John H. Thompson,
Director, Bureau of the Census.

Covered Areas for Voting Rights Bilingual Election Materials—2015
State and political subdivision | Language minority group
Alaska:
Aleutians East Borough | Filipino.
Aleutians East Borough | Hispanic.
Aleutians East Borough | Yup'ik.
Aleutians West Census Area | Aleut.
Aleutians West Census Area | Filipino.
Bethel Census Area | Inupiat.
Bethel Census Area | Yup'ik.
Bristol Bay Borough | Yup'ik.
Dillingham Census Area | Yup'ik.
Kenai Peninsula Borough | Yup'ik.
Kodiak Island Borough | Yup'ik.
Lake and Peninsula Borough | Yup'ik.
Nome Census Area | Inupiat.
Nome Census Area | Yup'ik.
North Slope Borough | Inupiat.
Northwest Arctic Borough | Inupiat.
Southeast Fairbanks Census Area | Alaskan Athabascan.
Valdez-Cordova Census Area | Alaskan Athabascan.
Wade Hampton Census Area | Inupiat.
Wade Hampton Census Area | Yup'ik.
Yukon-Koyukuk Census Area | Alaskan Athabascan.
Yukon-Koyukuk Census Area | Inupiat.
Arizona:
Apache County | American Indian (Navajo).
Coconino County | American Indian (Navajo).
Gila County | American Indian (Apache).
Graham County | American Indian (Apache).
Maricopa County | Hispanic.
Navajo County | American Indian (Navajo).
Pima County | Hispanic.
Pinal County | American Indian (Apache).
Santa Cruz County | Hispanic.
Yuma County | Hispanic.
California:
State Coverage | Hispanic.
Alameda County | Chinese (including Taiwanese).
Alameda County | Filipino.
Alameda County | Hispanic.
Alameda County | Vietnamese.
Colusa County | Hispanic.
Contra Costa County | Chinese (including Taiwanese).
Contra Costa County | Hispanic.
Del Norte County | American Indian (All other American Indian Tribes).
Fresno County | Hispanic.
Glenn County | Hispanic.
Imperial County | Hispanic.
Kern County | Hispanic.
Kings County | Hispanic.
Los Angeles County | Cambodian.
Los Angeles County | Chinese (including Taiwanese).
Los Angeles County | Filipino.
Los Angeles County | Hispanic.
Los Angeles County | Korean.
Los Angeles County | Vietnamese.
Madera County | Hispanic.
Merced County | Hispanic.
Monterey County | Hispanic.
Orange County | Chinese (including Taiwanese).
Orange County | Hispanic.
Orange County | Korean.
Orange County | Vietnamese.
Riverside County | Hispanic.
Sacramento County | Chinese (including Taiwanese).
Sacramento County | Hispanic.
San Benito County | Hispanic.
San Bernardino County | Hispanic.
San Diego County | American Indian (All other American Indian Tribes).
San Diego County | Chinese (including Taiwanese).
San Diego County | Filipino.
San Diego County | Hispanic.
San Diego County | Vietnamese.
San Francisco County | Chinese (including Taiwanese).
San Francisco County | Hispanic.
San Joaquin County | Hispanic.
San Mateo County | Chinese (including Taiwanese).
San Mateo County | Hispanic.
Santa Barbara County | Hispanic.
Santa Clara County | Chinese (including Taiwanese).
Santa Clara County | Filipino.
Santa Clara County | Hispanic.
Santa Clara County | Vietnamese.
Stanislaus County | Hispanic.
Tulare County | Hispanic.
Ventura County | Hispanic.
Colorado:
Conejos County | Hispanic.
Costilla County | Hispanic.
Denver County | Hispanic.
La Plata County | American Indian (Ute).
Montezuma County | American Indian (Ute).
Saguache County | Hispanic.
Connecticut:
Bridgeport town | Hispanic.
East Hartford town | Hispanic.
Hartford town | Hispanic.
Kent town | American Indian (All other American Indian Tribes).
Meriden town | Hispanic.
New Britain town | Hispanic.
New Haven town | Hispanic.
New London town | Hispanic.
Waterbury town | Hispanic.
Windham town | Hispanic.
Florida:
State Coverage | Hispanic.
Broward County | Hispanic.
DeSoto County | Hispanic.
Hardee County | Hispanic.
Hendry County | Hispanic.
Hillsborough County | Hispanic.
Lee County | Hispanic.
Miami-Dade County | Hispanic.
Orange County | Hispanic.
Osceola County | Hispanic.
Palm Beach County | Hispanic.
Pinellas County | Hispanic.
Polk County | Hispanic.
Seminole County | Hispanic.
Georgia:
Gwinnett County | Hispanic.
Hawaii:
Honolulu County | Chinese (including Taiwanese).
Honolulu County | Filipino.
Idaho:
Lincoln County | Hispanic.
Illinois:
Cook County | Asian Indian.
Cook County | Chinese (including Taiwanese).
Cook County | Hispanic.
Kane County | Hispanic.
Lake County | Hispanic.
Iowa:
Buena Vista County | Hispanic.
Tama County | American Indian (All other American Indian Tribes).
Kansas:
Finney County | Hispanic.
Ford County | Hispanic.
Grant County | Hispanic.
Haskell County | Hispanic.
Seward County | Hispanic.
Maryland:
Montgomery County | Hispanic.
Massachusetts:
Boston city | Hispanic.
Chelsea city | Hispanic.
Holyoke city | Hispanic.
Lawrence city | Hispanic.
Lowell city | Cambodian.
Lowell city | Hispanic.
Lynn city | Hispanic.
Malden city | Chinese (including Taiwanese).
Quincy city | Chinese (including Taiwanese).
Revere city | Hispanic.
Southbridge town | Hispanic.
Springfield city | Hispanic.
Worcester city | Hispanic.
Michigan:
Colfax township | Hispanic.
Fennville city | Hispanic.
Hamtramck city | Bangladeshi.
Mississippi:
Attala County | American Indian (Choctaw).
Jackson County | American Indian (Choctaw).
Jones County | American Indian (Choctaw).
Kemper County | American Indian (Choctaw).
Leake County | American Indian (Choctaw).
Neshoba County | American Indian (Choctaw).
Newton County | American Indian (Choctaw).
Noxubee County | American Indian (Choctaw).
Scott County | American Indian (Choctaw).
Winston County | American Indian (Choctaw).
Nebraska:
Colfax County | Hispanic.
Dakota County | Hispanic.
Dawson County | Hispanic.
Nevada:
Clark County | Filipino.
Clark County | Hispanic.
New Jersey:
Bergen County | Hispanic.
Bergen County | Korean.
Camden County | Hispanic.
Cumberland County | Hispanic.
Essex County | Hispanic.
Hudson County | Hispanic.
Middlesex County | Asian Indian.
Middlesex County | Hispanic.
Passaic County | Hispanic.
Union County | Hispanic.
New Mexico:
Bernalillo County | American Indian (Navajo).
Bernalillo County | Hispanic.
Chaves County | Hispanic.
Cibola County | American Indian (Navajo).
Doña Ana County | Hispanic.
Guadalupe County | Hispanic.
Hidalgo County | Hispanic.
Lea County | Hispanic.
Lincoln County | American Indian (Apache).
Luna County | Hispanic.
McKinley County | American Indian (Navajo).
Mora County | Hispanic.
Otero County | American Indian (Apache).
Rio Arriba County | American Indian (Navajo).
San Juan County | American Indian (Navajo).
San Juan County | American Indian (Ute).
San Miguel County | Hispanic.
Sandoval County | American Indian (Navajo).
Sandoval County | American Indian (Pueblo).
Santa Fe County | American Indian (Pueblo).
Socorro County | American Indian (Navajo).
Socorro County | Hispanic.
Union County | Hispanic.
Valencia County | Hispanic.
New York:
Bronx County | Hispanic.
Kings County | Chinese (including Taiwanese).
Kings County | Hispanic.
Nassau County | Hispanic.
New York County | Chinese (including Taiwanese).
New York County | Hispanic.
Queens County | Asian Indian.
Queens County | Chinese (including Taiwanese).
Queens County | Hispanic.
Queens County | Korean.
Suffolk County | Hispanic.
Westchester County | Hispanic.
Oklahoma
Texas County | Hispanic.
Pennsylvania:
Berks County | Hispanic.
Lehigh County | Hispanic.
Philadelphia County | Hispanic.
Rhode Island:
Central Falls city | Hispanic.
Pawtucket city | Hispanic.
Providence city | Hispanic.
Texas:
State Coverage | Hispanic.
Andrews County | Hispanic.
Atascosa County | Hispanic.
Bailey County | Hispanic.
Bee County | Hispanic.
Bexar County | Hispanic.
Brooks County | Hispanic.
Caldwell County | Hispanic.
Calhoun County | Hispanic.
Cameron County | Hispanic.
Castro County | Hispanic.
Cochran County | Hispanic.
Crane County | Hispanic.
Crockett County | Hispanic.
Crosby County | Hispanic.
Culberson County | Hispanic.
Dallam County | Hispanic.
Dallas County | Hispanic.
Dawson County | Hispanic.
Deaf Smith County | Hispanic.
Dimmit County | Hispanic.
Duval County | Hispanic.
Ector County | Hispanic.
Edwards County | Hispanic.
El Paso County | American Indian (Pueblo).
El Paso County | Hispanic.
Floyd County | Hispanic.
Fort Bend County | Hispanic.
Frio County | Hispanic.
Gaines County | Hispanic.
Garza County | Hispanic.
Glasscock County | Hispanic.
Hale County | Hispanic.
Hansford County | Hispanic.
Harris County | Chinese (including Taiwanese).
Harris County | Hispanic.
Harris County | Vietnamese.
Hidalgo County | Hispanic.
Hockley County | Hispanic.
Hudspeth County | Hispanic.
Jeff Davis County | Hispanic.
Jim Hogg County | Hispanic.
Jim Wells County | Hispanic.
Jones County | Hispanic.
Karnes County | Hispanic.
Kenedy County | Hispanic.
Kinney County | Hispanic.
Kleberg County | Hispanic.
Knox County | Hispanic.
La Salle County | Hispanic.
Lamb County | Hispanic.
Live Oak County | Hispanic.
Lynn County | Hispanic.
Martin County | Hispanic.
Matagorda County | Hispanic.
Maverick County | American Indian (All other American Indian Tribes).
Maverick County | Hispanic.
McMullen County | Hispanic.
Medina County | Hispanic.
Menard County | Hispanic.
Midland County | Hispanic.
Moore County | Hispanic.
Nolan County | Hispanic.
Nueces County | Hispanic.
Ochiltree County | Hispanic.
Parmer County | Hispanic.
Pecos County | Hispanic.
Presidio County | Hispanic.
Reagan County | Hispanic.
Reeves County | Hispanic.
Refugio County | Hispanic.
San Patricio County | Hispanic.
Schleicher County | Hispanic.
Scurry County | Hispanic.
Sherman County | Hispanic.
Starr County | Hispanic.
Sterling County | Hispanic.
Sutton County | Hispanic.
Swisher County | Hispanic.
Tarrant County | Hispanic.
Tarrant County | Vietnamese.
Terry County | Hispanic.
Titus County | Hispanic.
Travis County | Hispanic.
Upton County | Hispanic.
Uvalde County | Hispanic.
Val Verde County | Hispanic.
Ward County | Hispanic.
Webb County | Hispanic.
Willacy County | Hispanic.
Winkler County | Hispanic.
Yoakum County | Hispanic.
Zapata County | Hispanic.
Zavala County | Hispanic.
Utah:
San Juan County | American Indian (Navajo).
San Juan County | American Indian (Ute).
Virginia:
Fairfax County | Hispanic.
Fairfax County | Vietnamese.
Washington:
Adams County | Hispanic.
Franklin County | Hispanic.
King County | Chinese (including Taiwanese).
King County | Vietnamese.
Yakima County | Hispanic.
Wisconsin:
Arcadia city | Hispanic.
Madison town | Hispanic.
Milwaukee city | Hispanic.

[FR Doc. 2016-28969 Filed 12-2-16; 8:5 am]

BILLING CODE 3510-07-P